Title 3—

The President

Proclamation 7377 of November 15, 2000

America Recycles Day, 2000

By the President of the United States of America

A Proclamation

As we look forward to Thanksgiving, our annual celebration of America's great bounty, it is appropriate to observe America Recycles Day and focus on how to preserve that bounty for the benefit of future generations.

Recycling waste and purchasing products made from recycled materials are among the easiest and most effective measures every American can take to conserve our resources and create a cleaner environment. Currently, our country recovers more than 28 percent of the billions of pounds of waste generated by Americans annually—an effort that translates into enough savings to supply the energy needs of 9 million U.S. households. But the recycling process succeeds only when recovered materials are returned to retailers as new products that are purchased by consumers; otherwise, the recycled products themselves must be disposed of as waste.

Buying recycled products conserves resources, reduces water and air pollution and greenhouse gas emissions, and saves energy. While beneficial for the environment, the recycling process is good for our economy as well. By promoting the development of markets for recycled products, we are also creating new jobs, many of which are in America's inner cities, where job creation is particularly critical. It is estimated that while incinerating 10,000 tons of waste creates 1 job, and landfilling the same amount creates 6 jobs, recycling the same 10,000 tons creates 36 jobs. Nationwide, recycling and remanufacturing provide 1 million jobs and $100 billion in revenue.

To ensure the Federal Government's leadership in the recycling effort, I signed an Executive Order in 1998 directing all Federal agencies to expand and strengthen their commitment to recycling and buying recycled-content and environmentally preferable products. The Federal Government now purchases more than $350 million in recycled-content products annually—an increase of $112 million a year, or 30 percent, from just a decade ago.

America Recycles Day helps us to build on this progress by uniting environmental and community organizations, business and industry, and agencies at all levels of government as partners in the vital effort to keep recycling working. By encouraging every business and consumer in America to start or enhance recycling efforts and to buy recycled-content products, we can sustain our economy, improve our environment, and preserve our precious natural resources for the sake of generations to come.

NOW, THEREFORE, I, WILLIAM J. CLINTON, President of the United States of America, by virtue of the authority vested in me by the Constitution and laws of the United States, do hereby proclaim November 15, 2000, as America Recycles Day. I urge all Americans to observe this day with appropriate ceremonies and activities and to take personal responsibility for the environment not only by recycling, but also by choosing to purchase and use products made from recycled materials.

IN WITNESS WHEREOF, I have hereunto set my hand this fifteenth day of November, in the year of our Lord two thousand, and of the Independence of the United States of America the two hundred and twenty-fifth.

wj

[FR Doc. 00-29727

Filed 11-16-00; 11:02 am]

Billing code 3195-01-P